DEPARTMENT OF HEALTH AND HUMAN SERVICES

National Institutes of Health

Proposed Collection; Comment Request; Assessing the Long-Term Impacts of the John E. Fogarty International Center's Research and Training Programs

ACTION: Notice.

SUMMARY: In compliance with the requirement of section 3506(c)(2)(A) of the Paperwork Reduction Act of 1995, for opportunity for public comment on proposed data collection projects, the John E. Fogarty International Center, the National Institutes of Health (NIH), will publish periodic summaries of proposed projects to be submitted to the Office of Management and Budget (OMB) for review and approval.

Proposed Collection

Title: Assessing the Long-Term Impacts of the John E. Fogarty International Center's Research and Training Programs.

Type of Information Collection Request: New collection.

Need and Use of Information Collection: This study will inform investment decisions and strategies employed by the Fogarty International Center for the purpose of strengthening biomedical research capacity in low and middle income countries. The primary objective of the study is to develop detailed case studies of the long-term impacts of Fogarty's research and training programs on educational institutions located in low and middle income countries. The findings will provide valuable information concerning return on the Center's investments over the past twenty years and effective strategies for promoting research capacity development in the future.

Frequency of Response: Once.

Affected Public: Individuals.

Type of Respondents: Current and former NIH grantees; Current and former NIH trainees in countries of interest; Leaders and administrators at institutions of interest; Policy-makers and scientific leaders in countries of interest.

Estimated Number of Respondents: 105 per institution; total of 10 institutions over five years.

Estimated Number of Responses per Respondent: 1.

Average Burden Hours per Response: 1 hour for interview participants; 2 hours for focus group participants.

Estimated Total Annual Burden Hours Requested: 290 and the annualized cost to respondents is estimated at $4,841.

There are no Capital Costs to report. There are no Operating or Maintenance Costs to report.

| Number of respondents/ participants per institution | Number of institutions per year | Number of responses per respondent | Average burden hours per response | Estimated total annual burden hours requested
Interviews with U.S.-based principal investigators | 20 | 2 | 1 | 1 | 40
Focus groups with selected trainees and follow-on survey | 40 | 2 | 1 | 2 | 160
Interviews with university leadership | 4 | 2 | 1 | 1 | 8
Interviews with trainees | 13 | 2 | 1 | 1 | 26
Interviews with foreign grantees | 20 | 2 | 1 | 1 | 40
Interviews with foreign policy-makers/scientific leaders | 8 | 2 | 1 | 1 | 16
Total | 105 |  |  |  | 290

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

ADDRESSES: You may submit comments via regular mail to Dr. Linda Kupfer, Fogarty International Center, National Institutes of Health, 16 Center Drive, MSC 6705, Building 16, Room 202, Bethesda, MD 20892 or via electronic mail to kupferl@mail.nih.gov.

FOR FURTHER INFORMATION CONTACT: To request more information on the proposed project or to obtain a copy of the data collection plans and instruments, contact Dr. Linda Kupfer, Fogarty International Center, National Institutes of Health, 16 Center Drive, Building 16, Room 202, Bethesda, MD 20892, or call 301-496-1491 (this is not a toll-free number), or E-mail your request, including your address to: kupferl@mail.nih.gov.

Comments Due Date: Comments regarding this information collection are best assured of having their full effect if received within 60 days of the date of this publication.

Dated: May 19, 2010.
Timothy J. Tosten,
Executive Officer, Office of Administrative Management and International Services, John E. Fogarty International Center, National Institutes of Health.

[FR Doc. 2010-12782 Filed 5-26-10; 8:45 am]

BILLING CODE 4140-01-P